DEPARTMENT OF COMMERCE

National Oceanic and Atmospheric Administration

50 CFR Part 635

RIN 0648-AW61

Atlantic Highly Migratory Species; Atlantic Swordfish Quotas

AGENCY: National Marine Fisheries Service (NMFS), National Oceanic and Atmospheric Administration (NOAA), Commerce.

ACTION: Extension of comment period and change of public hearing date and time.

SUMMARY: In order to provide additional time and opportunities for highly migratory species (HMS) constituents, and other interested parties to comment on the proposed rule published on November 18, 2008 (73 FR 68398), to adjust the 2008 North and South Atlantic swordfish commercial quotas and modify the vessel chartering regulations, NMFS is extending the proposed rule comment period for this action from December 18, 2008, to January 16, 2009. NMFS is also changing the date and time of the December 16, 2008, public hearing scheduled for Gloucester, MA, to January 15, 2009.

DATES: Comments on the proposed rule must be received no later than 5:00 p.m. on January 16, 2009.

The new Gloucester, MA, public hearing date and time is January 15, 2009, from 3:00 — 5:00 p.m.

ADDRESSES: You may submit comments, identified by [0648-AW61], by any one of the following methods:

• Electronic Submissions: Submit all electronic public comments via the Federal eRulemaking Portal http://www.regulations.gov

• Fax: 301-713-1917, Attn: LeAnn Southward Hogan

• Mail: NMFS SF1, 1315 East-West Highway, Silver Spring, MD 20910

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Copies of the supporting documents including the 2007 Environmental Assessment (EA), Regulatory Impact Review (RIR), Final Regulatory Flexibility Analysis (FRFA), and the Consolidated Atlantic HMS Fishery Management Plan (FMP) are available from the HMS website at http://www.nmfs.noaa.gov/sfa/hms/ or by contacting LeAnn Southward Hogan (see FOR FURTHER INFORMATION CONTACT).

The public hearing location is: National Oceanic and Atmospheric Administration, National Marine Fisheries Service Northeast Regional Office, 55 Great Republic Drive, Gloucester, MA 01930.

FOR FURTHER INFORMATION CONTACT: LeAnn Southward Hogan or Karyl Brewster-Geisz by phone: 301-713-2347 or by fax: 301-713-1917.

SUPPLEMENTARY INFORMATION: The U.S. Atlantic swordfish fishery is managed under the 2006 Consolidated HMS FMP. Implementing regulations at 50 CFR part 635 are issued under the authority of the Magnuson-Stevens Fishery Conservation and Management Act (Magnuson-Stevens Act), 16 U.S.C. 1801 et seq., and the Atlantic Tunas Convention Act (ATCA), 16 U.S.C. 971 et seq. Regulations issued under the authority of ATCA carry out the recommendations of the International Commission for the Conservation of Atlantic Tunas (ICCAT).

On November 18, 2008 (73 FR 68398), NMFS published a proposed rule, requested comments on the adjustment of the 2008 swordfish quotas and modifications to the vessel chartering regulations, and scheduled two public hearings in December 2008 to receive comments from fishery participants and other members of the public regarding the proposed rule. The original comment period was scheduled to conclude on December 18, 2008, and the Gloucester, MA public hearing was scheduled for December 16, 2008. Due to requests from HMS fishery constituents, in order to provide additional time and opportunities for public comment by HMS constituents, NMFS is extending the public comment period on the proposed rule to 5 p.m., January 16, 2009, and changing the date of the Gloucester, MA public hearing to January 15, 2009 from 3:00 — 5:00 p.m.

Authority: 16 U.S.C. 971 et seq.; 16 U.S.C. 1801 et seq.

Dated: December 5, 2008.
Emily H. Menashes,
Acting Director, Office of Sustainable Fisheries, National Marine Fisheries Service.

[FR Doc. E8-29377 Filed 12-10-08; 8:45 am]

BILLING CODE 3510-22-S